DEPARTMENT OF TRANSPORTATION

Federal Aviation Administration

[Summary Notice No. PE-2005-36]

Petitions for Exemption; Dispositions of Petitions Issued

AGENCY: Federal Aviation Administration (FAA), DOT.

ACTION: Notice of disposition of prior petition.

SUMMARY: Pursuant to FAA's rulemaking provisions governing the application, processing, and disposition of petitions for exemption, part 11 of title 14, Code of Federal Regulations (14 CFR), this notice contains the disposition of certain petitions previously received. The purpose of this notice is to improve the public's awareness of, and participation in, this aspect of FAA's regulatory activities. Neither publication of this notice nor the inclusion or omission of information in the summary is intended to affect the legal status of any petition or its final disposition.

FOR FURTHER INFORMATION CONTACT: Kenna Sinclair (425) 227-1556, Transport Airplane Directorate, ANM-113, Federal Aviation Administration, 1601 Lind Avenue SE., Renton, WA 98055-4056; or John Linsenmeyer (202) 267-5174, Office of Rulemaking (ARM-1), Federal Aviation Administration, 800 Independence Avenue, SW., Washington, DC 20591.

Issued in Washington, DC, on June 29, 2005.
Anthony F. Fazio,
Director, Office of Rulemaking.

Disposition of Petitions

Docket No.: FAA-2005-20583.

Petitioner: Dassault Aviation.

Sections of 14 CFR Affected: 14 CFR 91.613(b) and 135.170(c).

Description of Relief Sought/Disposition: Relief from the requirements for material in compartment interiors for Dassault Model Mystere-Falcon 20 and Mystere-Falcon 200 series airplanes.

Denial of Exemption, 06/24/2005, Exemption No. 8573.

[FR Doc. 05-13271 Filed 7-5-05; 8:45 am]

BILLING CODE 4910-13-P